DEPARTMENT OF HEALTH AND HUMAN SERVICES

Centers for Disease Control and Prevention

[60Day-15-0985]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Returning Our Veterans to Employment and Reintegration (OMB No. 0920-0985, expires 09/30/2015)—Revision—National Institute for Occupational Safety and Health (NIOSH), Centers for Disease Control and Prevention (CDC).

Background and Brief Description

The mission of the National Institute for Occupational Safety and Health (NIOSH) is to promote safety and health at work for all people through research and prevention. The Occupational Safety and Health Act, Public Law 91-596 (section 20[a][1]), authorizes NIOSH to conduct research to advance the health and safety of workers. NIOSH is requesting a three-year approval to account for the proposed changes to 0920-0985 in order to improve the response rates for one of the two surveys included in the information collection, the Veterans Survey. No changes have been made to the Assistance Dog Provider Survey.

Veterans with chronic posttraumatic stress disorder (PTSD) face barriers that prevent many of them from successfully reintegrating into society and returning to the work force. Various reports claim that higher unemployment rates and increased healthcare costs and utilization are associated with PTSD. Symptoms associated with PTSD include diminished interest or participation in significant activities, feelings of detachment or estrangement from others, difficulty falling or staying asleep, hyper vigilance, exaggerated startle response, difficulty with concentration or attention, and a restricted range of affect. Amelioration of PTSD symptoms is necessary to facilitate reintegration of veterans into society and the workforce; these benefits may also contribute positively to veterans' overall physical and psychological health.

An approach for helping veterans with PTSD and other psychiatric impairments is that of using service dogs for assistance and support. A quick Internet search will find dozens of Web sites by providers of service dogs for veterans, with assistance in transition to daily life (not necessarily employment) being the primary goal. The present research study will focus on the following questions with two surveys.

The Assistance Dog Provider Survey will target service dog providers to address the following questions:

1. Among assistance dog providers sampled in the U.S., how many provide services to veterans?

2. Among assistance dog providers that provide services to veterans, what are the specific strategies used or services offered to address issues related to veterans and, specifically, return to work?

3. From the perspective of assistance dog providers, have the services or the requests for services to assist veterans return to work increased, decreased, or remained the same during the past five years.

The Veteran Survey will target veterans to address the following questions:

1. Is a veteran's history or current experience with pet ownership/bonding associated with physical, psychological, and emotional health?

2. Is a veteran's history with pet ownership/bonding associated with their ability to cope with post-deployment or post-service stressors?

3. Is a veteran's current experience with pet ownership/bonding associated with their ability to cope with post-deployment or post-service stressors?

4. Do the facilitators and barriers associated with reemployment differ by veterans' physical, psychological, and emotional health?

5. What factors mediate or moderate the impact of pet ownership/bonding among veterans' with physical and/or psychological disabilities and with regard to the facilitators and barriers associated with reemployment?

The purpose of both surveys is to increase available information about services provided to veterans by assistance dog training organizations, and to increase available information on veteran's attitudes and perceptions about physical, psychological, physiological, and functional barriers that prevent veterans with PTSD and other physical or psychiatric disorders from returning to work, and to provide information about the potential benefits of animals and animal-assisted interventions.

The information and the Internet link to the web-based Assistance Dog Provider Survey will be sent by email to approximately 1,000 service dog providers. It is estimated that 700 individuals will read the initial email or take the follow up phone call only. Depending on the level of involvement of each agency, activities associated with reading the email and responding to the email is estimated to take each respondent approximately five minutes and taking the follow up phone call is estimated to take an additional five minutes.

The information and the Internet link to the web-based veteran survey will be sent by email to approximately 300 veteran agencies. The activities associated with reading the email, taking the follow up phone call, and distributing the flyer (and postcards, if requested) or forwarding the survey announcement to additional individuals is estimated to take up to five minutes each. These agencies will then distribute the email and flyer to the veterans associated with the agency at their discretion. Based on the results of similar studies, we anticipate a response rate of approximately 6,000 veterans.

Results of this survey will lead to recommendations and guidance for assistance dog providers, healthcare professionals, researchers, and policymakers pertaining to animal-assisted interventions to help facilitate the reintegration and reemployment of Veterans. These surveys are part of a larger project that will identify priorities and new opportunities for research, as well as address policy implications associated with public access rights afforded to service dogs by the Americans with Disabilities Act. There are no costs to the respondents other than their time. The total estimated annual burden hours are 6,586.

We are requesting four changes to the Veteran Survey: (1) The inclusion of an incentive (the chance to win a $50 VISA gift card after completing all or portions of the survey), (2) revised, simplified survey announcements (emails and flyers), (3) an additional announcement in the form of postcards to be provided (only if requested) to veterans agencies to assist their dissemination of the survey announcement, and (4) the addition of a collaborating investigator. Changes 1-3 are attempts to increase the response rate. To date, only 66 veterans have completed the survey; the target number of respondents is 6,000. The average burden associated with Change 3 is expected to increase up to 60 minutes for some veteran's agency personnel. No change in burden is expected for veterans.

No changes to any aspect of the Assistance Dog Provider Survey are being requested in this revision. Data collection is ongoing, but a sufficient number of service dog providers have completed the survey that changes to the recruitment methods are not necessary.

Estimated Annualized Burden Hour
Type of respondent | Form name | Number of respondents | Number of responses per respondent | Average burden per response (in hours) | Total burden hours
Assistance Dog Providers (who read the initial email) | Assistance Dog Provider Recruitment Email | 700 | 1 | 5/60 | 58
Assistance Dog Providers (who take follow up phone call) | Assistance Dog Provider Survey Reminder Follow-up Telephone Script | 700 | 1 | 5/60 | 58
Assistance Dog Providers choosing to complete survey | Assistance Dog Provider Survey | 300 | 1 | 30/60 | 150
Veterans Agency Contacts (who read the initial email) | Veterans Survey Announcement Email | 100 | 1 | 5/60 | 8
Veterans Agency Contacts (who take follow up phone call) | Veterans Survey Follow-up Telephone Script | 100 | 1 | 5/60 | 8
Veterans Agency Contacts (who opt to receive and distribute the postcards) | Veterans Survey Announcement Postcard | 100 | 1 | 1 | 100
U.S. Veterans | Veteran Survey | 6,000 | 1 | 1 | 6,000
U.S. Veterans | Raffle Form | 6,000 | 1 | 2/60 | 200
U.S. Veterans (who are selected as winners in raffle and are contacted by phone) | Raffle Winner Telephone Script | 25 | 1 | 5/60 | 2
U.S. Veterans (who are selected as winners in raffle and contacted by email) | Raffle Winner Contact Email | 25 | 1 | 5/60 | 2
Total |  |  |  |  | 6,586

Leroy A. Richardson,
Chief, Information Collection Review Office, Office of Scientific Integrity, Office of the Associate Director for Science, Office of the Director, Centers for Disease Control and Prevention.

[FR Doc. 2014-25251 Filed 10-22-14; 8:45 am]

BILLING CODE 4163-18-P